DEPARTMENT OF LABOR

Employment and Training Administration

[TA-W-38,293]

Dresser Rand, Painted Post, New York; Dismissal of Application for Reconsideration

Pursuant to 29 CFR 90.18(C) an application for administrative reconsideration was filed with the Director of the Division of Trade Adjustment Assistance for workers at Dresser Rand, Painted Post, New York. The application contained no new substantial information which would bear importantly on the Department's determination. Therefore, dismissal of the application was issued.

TA-W-38,293; Dresser Rand, Painted Post, New York (May 24, 2001)

Signed at Washington, DC this 25th day of May, 2001.
Edward A. Tomchick,
Director, Division of Trade Adjustment Assistance.

[FR Doc. 01-14414 Filed 6-7-01; 8:45 am]

BILLING CODE 4510-30-M